DEPARTMENT OF THE INTERIOR

Bureau of Indian Affairs

[189A2100DD/AAKC001030/ A0A501010.999900 253G]

Indian Gaming; Approval of an Amendment to a Tribal-State Class III Gaming Compact in the State of Washington

AGENCY: Bureau of Indian Affairs, Interior.

ACTION: Notice.

SUMMARY: The Puyallup Tribe of the Puyallup Reservation negotiated the Fifth Amendment to the Tribal-State Compact for Class III Gaming between the Puyallup Indian Tribe and the State of Washington governing Class III gaming; this notice announces approval of the amended Compact.

DATES: This compact takes effect on January 17, 2018.

FOR FURTHER INFORMATION CONTACT: Ms. Paula L. Hart, Director, Office of Indian Gaming, Office of the Assistant Secretary—Indian Affairs, Washington, DC 20240, (202) 219-4066.

SUPPLEMENTARY INFORMATION: Section 11 of the Indian Gaming Regulatory Act (IGRA) requires the Secretary of the Interior to publish in the Federal Register notice of approved Tribal-State compacts that are for the purpose of engaging in Class III gaming activities on Indian lands. See Public Law 100-497, 25 U.S.C. 2701 et seq. All Tribal-State Class III compacts, including amendments, are subject to review and approval by the Secretary under 25 CFR 293.4. The Fifth Amendment to the Tribal-State Compact for Class III Gaming between the Puyallup Indian Tribe and the State of Washington amends the previous compact. The Amendment adds to and revises the definition section; modifies Appendix X2 to increase the Tribe's allocation of player terminals; changes the calculation of State regulatory costs; clarifies the timing for payment to Problem Gambling and Smoking Cessation and Prevention Programs; and prohibits the acceptance of Electronic Benefit Cards. The Fifth Amendment to the Tribal-State Compact for Class III Gaming between the Puyallup Indian Tribe and the State of Washington is approved. See 25 U.S.C. 2710(d)(8)(A).

Dated: December 22, 2017.
John Tahsuda,
Principal Deputy Assistant Secretary—Indian Affairs, Exercising the Authority of the Assistant Secretary—Indian Affairs.

[FR Doc. 2018-00637 Filed 1-16-18; 8:45 am]

BILLING CODE 4337-15-P